DEPARTMENT OF DEFENSE

Department of the Army, Corps of Engineers

Intent To Prepare a Supplemental Draft Environmental Impact Statement for the Port of the Americas Port Complex

AGENCY: U.S. Army Corps of Engineers, DoD.

ACTION: Notice of intent.

SUMMARY: The Port of the Americas (the applicant) is proposing the development of a transshipment port facility. The proposal included the development of hubs at one or more sites on the south coast of Puerto Rico, in the Municipalities of Ponce, Peñuelas, and Guayanilla. The proposed terminals would need section 10 of the Rivers and Harbors Act, section 404 of the Clean Water Act permits and section 103 of the Marine Protection, Research and Sanctuaries Act at one or more of the sites.

FOR FURTHER INFORMATION CONTACT: Edwin E. Muñiz, (787) 729-6905/6944, Chief, Antilles Regulatory Section, U.S. Army Corps of Engineers, 400 Fernandez Juncos Avenue, San Juan, Puerto Rico 00901.

SUPPLEMENTARY INFORMATION: On August 28, 2001, the Corps of Engineers published a Notice of Intent to prepare a Draft Environmental Impact Statement (DEIS) for the Las Americas Transshipment Port Complex being proposed by the Puerto Rico Infrastructure Financing Authority (AFI) acronym in Spanish, the original applicant. On September 20, 2002, the Corps issued the Notice of Availability of the DEIS for the Proposed Port of the Americas. In the DEIS, the applicant's preferred alternative consisted in the development of terminals at the Guayanilla and Ponce harbors to accommodate Post-Panamax vessels. In the Guayanilla-Peñuelas area, this alternative would include the following:

• Construction of a new pier with a maximum length of 6,000 feet, with support facilities capable of handling as many as four Post-Panamax vessels;

• Discharge of fill material in approximately 110 acres of shallow navigable waters, including approximately 12 acres of mangrove coastal wetlands in the Punta Gotay area, for the development of loading-unloading storage areas and other support facilities;

• Development for value-added activities of as much as 300 acres of a parcel owned by Union Carbide in Peñuelas adjoining Punta Guayanilla;

• Development and/or improvements to other infrastructure within the Guayanilla-Peñuelas area to operate the terminal efficiently, including water, sewers, power, highways and communication services.

In Ponce, the Applicant's Preferred Alternative would include:

• Expansion of the existing transshipment pier to a maximum length of about 3,610 feet to allow simultaneous handling of as many as two Post-Panamax vessels;

• Immediate dredging of the navigation channel and berthing areas to a minimum depth of 45 feet and a maximum of 53 feet to allow the navigation of Post-Panamax vessels;

• Disposal of part of the dredged material at the EPA designated offshore disposal site south of Ponce, while reclaiming for beneficial use for either the fill at the Guayanilla Harbor or fill at uplands in the vicinity;

• Development of approximately 132 acres of upland adjacent to the port for value-added activities.

The applicant (Port of the Americas) notified the Corps of Engineers of their decision to modify their preferred alternative as follows:

a. The elimination of the proposed fill in the Guayanilla Harbor;

b. The reduction in length of the proposed pier in the Guayanilla Harbor to a maximum length of 3,000 feet to service Panamax vessels; and

c. The proposal to fill approximately 70 acres of waters of the U.S. at the Ponce harbor adjacent to the proposed expansion of pier number 8.

Because the proposed changes are significant changes to what was previously proposed, a Supplemental Draft Environmental Impact Statement (S-DEIS) for the Port of the Americas Port Complex will be prepared.

Pursuant to section 10 of the Rivers and Harbors Act structures the Corps of Engineers has regulatory authority over structures and/or work in or affecting navigable waters of the United States. Under section 404 of the Clean Water Act, the Corps of Engineers has regulatory authority to permit the discharge of dredged or fill material into wetlands and other waters of the United States. Also, under section 103 of the Marine Protection, Research and Sanctuaries Act, the Corps of Engineers has regulatory authority over the transportation of dredged material for the purpose of dumping it in ocean waters at dumping sites designated under 40 CFR part 228. The guidelines pursuant to section 404(b) of the act require that impacts to the aquatic environment be avoided and minimized to the extent practicable. Permit applications for the transportation of dredged material for the purpose of dumping it in ocean waters will be evaluated to determine whether the proposed dumping will unreasonably degrade or endanger human health, welfare, amenities, or the marine environment, ecological systems or economic potentialities.

In determining whether to issue a permit, the Corps must also comply with other requirements including, but not limited to, the Endangered Species Act, the National Environmental Policy Act, the Coastal Zone Management Act, the Magnunson-Stevens Fishery Conservation and Management Act Section 401 of the Clean Water Act, and other applicable Federal laws. Modifying land for new uses also involves zoning, land use planning, water management, and other regulatory/planning requirements at the local, Commonwealth, and Federal level.

Issues: During the scoping process for the preparation of the DEIS, several issues of relevance associated with the development of the PTA were identified. These issues were evaluated in detail in the DEIS for each of the alternatives considered, including the no-action alternative. Each issue was evaluated in terms of a list of measurement indicators to complete a thorough evaluation of the environmental impacts associated with each issue. The following issues were evaluated in detail as part of this DEIS; Fish and Wildlife Resources; Marine Resources/Special Aquatic Sites; Essential Fish Habitat; Threatened or Endangered Species; Ecologically Sensitive Areas; Wetlands, Coastal Zone; Flooding, Water and Sediment Quality; Air Quality; Cultural Resources; Socio-Economic Impacts; Hazardous, Toxic, and Radioactive Wastes; Dredging and Disposal of Dredged Material; Navigation; Infrastructure; Marine Currents; and Noise. The DEIS evaluated the potential direct, indirect, and cumulative environmental consequences. As a result of the comments provided by the resource agencies in reviewing the DEIS, the new applicant's preferred alternative is being developed. The same issues identified in the scoping process for the DEIS will be considered in the S-DEIS. However, the Corps of Engineers will consider any additional scoping issues provided to us.

Scoping: On October 31, 2002, the Corps of Engineers and the applicant met with Federal and Commonwealth resources agencies to discuss the alternative to discharge fill in Ponce. As result of the comments provided by the resource agencies in reviewing the DEIS, the new applicant's preferred alternative is being developed. The Corps of Engineers may hold additional scoping meeting(s) with Federal and State Agencies. At this time, there are no plans for a public scoping meeting. If a public scoping meeting is held by the Corps of Engineers, it will be announced. In addition Federal, State and local agencies, as well as interested private organizations and individuals are encouraged to suggest additional issues not listed above for consideration to submit comments.

Public Involvement: We invite the participation of affected Federal, State, and local agencies, and other interested private organizations and individuals that have additional issues not listed above to submit written comments to the information contact provided in this notice no later than 30 days from the date of this notice.

Coordination: The proposed action is being coordinated with a number of Federal, Commonwealth, and local agencies including but not limited to the following: U.S. Fish and Wildlife Service, National Marine Fisheries Service, U.S. Environmental Protection Agency, U.S. Coast Guard, Puerto Rico Department of Natural and Environmental Resources, Puerto Rico Environmental Quality Board, Puerto Rico Planning Board, Puerto Rico State Historic Preservation Officer, and other agencies as previously identified in scoping, public involvement, and agency coordination.

Other Environmental Review and Consultation: The proposed action would involve evaluation for compliance with guidelines pursuant to section 404(b) of the Clean Water Act, public interest review, application for Water Quality Certification pursuant to section 401 of the Clean Water Act, and determination of Coastal Zone Management Act consistency.

S-DEIS Preparation: We estimate that the S-DEIS will be available to the public on or about March 14, 2003.

Dated: December 17, 2002.
John R. Hall,
Chief, Regulatory Division.

[FR Doc. 02-32816 Filed 12-27-02; 8:45 am]

BILLING CODE 3710-AJ-M